CONSUMER PRODUCT SAFETY COMMISSION

16 CFR Parts 1112 and 1233

[Docket No. CPSC-2015-0016]

Safety Standard for Portable Hook-On Chairs

AGENCY: Consumer Product Safety Commission.

ACTION: Notice of proposed rulemaking.

SUMMARY: The Danny Keysar Child Product Safety Notification Act, section 104 of the Consumer Product Safety Improvement Act of 2008 (“CPSIA”), requires the United States Consumer Product Safety Commission (“Commission” or “CPSC”) to promulgate consumer product safety standards for durable infant or toddler products. These standards are to be “substantially the same as” applicable voluntary standards or more stringent than the voluntary standard if the Commission concludes that more stringent requirements would further reduce the risk of injury associated with the product. The Commission is proposing a safety standard for portable hook-on chairs (“hook-on chairs”) in response to the direction under section 104(b) of the CPSIA. In addition, the Commission is proposing an amendment to include an additional CFR part in the list of notice of requirements (“NORs”) issued by the Commission.

DATES: Submit comments by September 15, 2015.

ADDRESSES: Comments related to the Paperwork Reduction Act aspects of the marking, labeling, and instructional literature requirements of the proposed mandatory standard for hook-on chairs should be directed to the Office of Information and Regulatory Affairs, the Office of Management and Budget, Attn: CPSC Desk Officer, FAX: 202-395-6974, or emailed to oira_submission@omb.eop.gov.

Other comments, identified by Docket No. CPSC-2015-0016, may be submitted electronically or in writing:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this proposed rulemaking. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2015-0016, into the “Search” box, and follow the prompts.

FOR FURTHER INFORMATION CONTACT: Patricia L. Edwards, Project Manager, Directorate for Engineering Sciences, U.S. Consumer Product Safety Commission, 5 Research Place, Rockville, MD 20850; telephone: 301-987-2224; email: pedwards@cpsc.gov.

SUPPLEMENTARY INFORMATION:

I. Background and Statutory Authority

The CPSIA was enacted on August 14, 2008. Section 104(b) of the CPSIA, part of the Danny Keysar Child Product Safety Notification Act, requires the Commission to: (1) Examine and assess the effectiveness of voluntary consumer product safety standards for durable infant or toddler products, in consultation with representatives of consumer groups, juvenile product manufacturers, and independent child product engineers and experts; and (2) promulgate consumer product safety standards for durable infant and toddler products. Standards issued under section 104 are to be “substantially the same as” the applicable voluntary standards or more stringent than the voluntary standard if the Commission concludes that more stringent requirements would further reduce the risk of injury associated with the product.

The term “durable infant or toddler product” is defined in section 104(f)(1) of the CPSIA as “a durable product intended for use, or that may be reasonably expected to be used, by children under the age of 5 years.” Section 104(f)(2)(C) of the CPSIA specifically identifies “hook-on chairs” as a durable infant or toddler product.

Pursuant to section 104(b)(1)(A) of the CPSIA, the Commission consulted with manufacturers, retailers, trade organizations, laboratories, consumer advocacy groups, consultants, and members of the public in the development of this notice of proposed rulemaking (“NPR”), largely through the ASTM process. The NPR is based on the most recent voluntary standard developed by ASTM International (formerly the American Society for Testing and Materials), ASTM F1235-15, Standard Consumer Safety Specification for Portable Hook-On Chairs (“ASTM F1235-15”), and contains no modifications to the ASTM standard.

The testing and certification requirements of section 14(a) of the Consumer Product Safety Act (“CPSA”) apply to the standards promulgated under section 104 of the CPSIA. Section 14(a)(3) of the CPSA requires the Commission to publish an NOR for the accreditation of third party conformity assessment bodies (test laboratories) to assess conformity with a children's product safety rule to which a children's product is subject. The proposed rule for hook-on chairs, if issued as a final rule, would be a children's product safety rule that requires the issuance of an NOR. To meet the requirement that the Commission issue an NOR for the hook-on chairs standard, this NPR also proposes to amend 16 CFR part 1112 to include 16 CFR part 1233, the CFR section where the hook-on chair standard will be codified, if the standard becomes final.

II. Product Description

A. Definition of “Hook-On Chair”

The scope section of ASTM F1235-15 defines a “portable hook-on chair” as “[u]sually a legless seat constructed to locate the occupant at a table in such a position and elevation so that the surface of the table can be used as the feeding surface for the occupant * * * [s]upported solely by the table on which it is mounted.” The ASTM standard specifies the appropriate ages and weights for children using portable hook-on chairs as “between the ages of six months and three years and who weigh no more than 37 lb (16.8 kg) (95th percentile male at three years).”

Typical hook-on chairs consist of fabric over a lightweight frame, with a device to mount the seat to a support surface, such as a table or counter. Some hook-on chairs fold for easy storage or transport, and some include a removable tray that can be used in conjunction with a table.

B. Market Description

CPSC staff has identified 10 firms supplying hook-on chairs to the U.S. market, typically priced at $40 to $80 each. These 10 firms specialize in the manufacture and/or distribution of durable nursery products and represent only a small segment of the juvenile products industry. Nine of the 10 known firms are domestic (including 3 manufacturers and 6 importers). The remaining firm is a foreign manufacturer. Hook-on chairs represent only a small proportion of each firm's overall product line; on average, each firm supplies one hook-on chair model to the U.S. market annually.

III. Incident Data

CPSC's Directorate for Epidemiology, Division of Hazard Analysis, is aware of a total of 89 portable hook-on chair-related incidents reported to the CPSC that occurred between January 1, 2000 and October 31, 2014. These reports include 50 incidents involving injury, 38 non-injury incidents, and one fatality. Thirty-one of the incident reports were received through the National Electronic Injury Surveillance System (“NEISS”). Only one of the injured children (age 5 months) was outside the ASTM recommended user age range of 6 months to 3 years. One injured adult is included among the 50 nonfatal injuries.

A. Fatalities

The only known fatality occurred in 2002 when a 12-month-old child slid down in his portable hook-on chair so that his head and neck became wedged between the seat and the table edge, and the child was strangled. No restraints were attached to the chair at the time of the incident.

B. Nonfatalities

No hospitalizations occurred among the 50 reported nonfatal injuries. Thirty-five of the incidents were classified as “treated and released” from hospital emergency rooms, and the remaining 15 incidents involved no medical treatment. The reported injuries included skull fractures, concussions, broken or fractured bones, and fingertips.

Five of the 50 nonfatal injuries involved head or neck entrapment. None of these entrapments resulted in death because in each instance the child was quickly released from the entrapment by the caregiver. Most of the injury cases involved some sort of fall, namely a hook-on chair falling from the counter or table to which it was attached, or a child falling from or slipping out of the hook-on chair.

C. Hazard Pattern Identification

CPSC staff reviewed all 89 reported incidents (1 fatality, 50 with injuries, and 38 without injuries) to identify hazard patterns associated with portable hook-on chairs. Subsequently, CPSC staff considered the hazard patterns when reviewing the adequacy of ASTM F1235.

Because the level of detail in the analyzed NEISS data is sufficient only for macro-level hazard assessment, staff first grouped NEISS injury data and non-NEISS data separately. Within NEISS injury data, staff grouped the incidents into three broad categories:

• Compromised attachment;

• child fall or slip out of the hook-on chair; and

• fall of unknown type.

For non-NEISS incidents, staff grouped the incidents into six broad categories:

• Compromised attachment;

• restraint or containment issues;

• unintended release of seat fabric fastenings;

• seat fabric separation due to breaking or tearing components;

• broken structural components; and

• other.

Staff then further classified the incidents within each category, as indicated in Table 1 below.

In order of frequency of incident reports within NEISS injury data and non-NEISS data, the hazard patterns are described below and summarized in Table 1:

1. NEISS Injury Incidents (31 Incidents)

Compromised Attachment (45%): Fourteen of the 31 incidents involved a hook-on chair falling from the table or counter to which it was attached. In these incidents, the attachment to the counter or table became compromised in some manner.

Child Fall or Slip from hook-on Chair (35%): Eleven of the 31 incidents involved a child falling or slipping out of the chair partially or completely. These incidents most likely involved issues with the restraints or other means of containment. However, given the limited information available, CPSC staff cannot be sure that the chairs remained securely attached to the table or that other product-related issues did not play a role. The only case in which the fall was determined to be partial rather than complete involved a child who was found hanging by his neck, caught in the chair.

Fall of Unknown Type (19%): Six of the 31 incidents involved falls of an unknown type. Although each of these cases appears to be related to some kind of fall affecting the child, the descriptions are not sufficiently clear to allow staff to determine the type of fall that occurred.

Table 1—Suspected NEISS Hazard Patterns Associated With Portable Hook-On Chairs
[Date of Treatment: January 1, 2000-October 2014]
Suspected hazard pattern | NEISS injury cases: Count | NEISS injury cases: Percentage
Chair detached and fell with child | 14 | 45
Child fell or slipped out of chair | 11 | 35
Fall of unknown type | 6 | 19
Total | 31 | 100
Source: Consumer Product Safety Commission's NEISS epidemiological database.
Note: The percentages have been rounded to the nearest integer and may not add up exactly to 100 percent.

2. Non-NEISS Incidents (58 Incidents)

Compromised Attachment (53%): Thirty-one of the incidents involved scenarios where the security of the hook-on chair's attachment to the table was compromised in some way. In a majority of these cases (17 out of 31), the chair did not completely separate from the table, either because the chair remained partially secured to the table, or because a parent took action before the chair fully detached. In some of the incidents in which the chair partially detached, the seat may have rotated, swung, pitched, or otherwise deviated from its intended position. Four injury incidents are included among the 17 incidents in which the chair did not detach completely. The two most severe of these injuries involved crushed or severed fingertips caught between a part of the chair and the clamp that was still engaged with the table. Five injuries are included among the 14 incidents in which the chair fell completely from the table, including one broken collarbone. In total, attachment issues resulted in 9 injuries (47% of the 19 nonfatal injuries reported by non-NEISS sources).

Restraint or Containment Issues (19%): Eleven incidents involved chair restraints or other containment issues. These incidents include one fatality, five nonfatal injury incidents, and five non-injury incidents. The most common scenario among these incidents was children slipping and becoming entrapped by the neck in the leg well or between the table and the chair, as occurred in seven incidents (1 fatal, 3 injuries, and 3 non-injuries). In another incident, the child slipped partially, but was caught by the shoulder by waist straps. The remaining three incidents all involved the child getting up or out over the sides of the chair. In one such incident, the child was able to escape from his three-point harness and stand up in the chair before being removed entirely from the chair by his mother. In the other two incidents, the children got themselves up over the sides of the chair and fell out. Only one of the two was injured; a parent of the uninjured child was able to catch the child's legs, preventing impact with the floor.

Unintended Release of Seat Fabric Fastenings (10%): Six incidents involved the chair seat fabric separating from the chair due to the unintended release of snaps or Velcro straps. These chairs, assembled by consumers, relied on snaps (1 incident) or Velcro straps (5 incidents) to hold the seat fabric onto the attachment arms or chair frame. Unintended release of these fastenings allowed the seat fabric to deviate from its intended position and therefore not support the child as intended. Impacts with the supporting table were the cause of two of the injuries. The third injury resulted when the child started to fall, but his neck became caught against the restraints.

Seat Fabric Separation Due to Breaking or Tearing Components (5%): Three incidents involved issues with seat fabric separating from the chair, including one injury. The injury occurred when a child fell completely out of the chair after the fabric ripped at the seams.

Breaking Structural Components (10%): Six incidents involved broken chair components affecting the structural integrity of the chair. Four of the incidents involved locking pins reported to have separated from the chair; one of these locking pin incidents involved injury, which resulted from an adult scratching her knee on the sharp protrusion of a locking pin. Two other incidents were associated with a broken release mechanism and a broken chair base, respectively, neither resulting in injuries.

Other (2%): One incident involved a child creating enough motion to tip over a small pedestal table to which the parent had secured the chair.

Table 2—Distribution of Non-NEISS Reported Portable Hook-On Chair Incidents By Product-Related Issues or Hazard Patterns
[Date of Incident: January 1, 2000-October 2014]
Product-related issues or hazard patterns | Total reports: Count | Total reports: Percentage | Reported injuries: Count | Reported injuries: Percentage | Reported deaths: Count | Reported deaths: Percentage
Attachment to Table Compromised | 31 | 53 | 9 | 47 |  |
(chair did not fall from table) | (17) |  | (4) |  |  |
(chair fell from table) | (14) |  | (5) |  |  |
Restraints or Containment | 11 | 19 | 5 | 26 | 1 | 100
(child slipped down, entrapping neck) | (7) |  | (3) |  | (1) |
(child slipped partially, but shoulder caught by waist straps) | (1) |  | (1) |  |  |
(child able to get up and possibly fall out of chair) | (3) |  | (1) |  |  |
Seat Fabric Separation Due to Unintended Release of Snaps or Straps | 6 | 10 | 3 | 16 |  |
(child slipped forward and head struck table after metal snaps opened) | (1) |  | (1) |  |  |
(child slipped and neck became trapped after Velcro opened) | (1) |  | (1) |  |  |
(child fell entirely out of chair after Velcro opened) | (2) |  | (1) |  |  |
(child remained seated despite Velcro opening) | (2) |  |  |  |  |
Seat Fabric Separation Due to Torn or Broken Components | 3 | 5 | 1 | 5 |  |
(child fell entirely out of chair after fabric seam ripped) | (1) |  | (1) |  |  |
(child remained seated despite broken clip or fabric) | (2) |  |  |  |  |
Miscellaneous Broken Components | 6 | 10 | 1 | 5 |  |
(locking pin) | (4) |  | (1) |  |  |
(release mechanism) | (1) |  |  |  |  |
(base of chair) | (1) |  |  |  |  |
Other | 1 | 2 | 0 | 0 |  |
(tip over of table hooked upon) | (1) |  |  |  |  |
Total | 58 | 100 | 19 | 100 | 1 | 100
Source: Consumer Product Safety Commission's epidemiological databases CPSRMS, IPII, INDP, and DTHS.
Note: The percentages have been rounded to the nearest integer and shown for totals and subtotals only. Subtotals do not necessarily add to heading totals.

D. Product Recalls

Since January 1, 2000, two hook-on chair recalls occurred involving two different firms. The first recall was in June 2001, and involved Inglesina USA hook-on chairs. The product was recalled after one report of a child who fell from the chair because that model chair did not incorporate a seat belt. The recall involved 780 units.

The second recall was in August 2011, and involved phil&teds USA, Inc., “metoo” clip-on chairs. This recall involved multiple hazards. The first hazard was related to missing or worn clamp pads that allowed the chairs to detach from a variety of different table surfaces, posing a fall hazard. A second hazard occurred when the chair detached; children's fingers were able to be caught between the bar and clamping mechanism, posing an amputation hazard. In addition, user instructions for the chairs were inadequate, increasing the likelihood of consumer misuse. CPSC is aware of 19 reports of the chairs falling from different table surfaces, including five reports of injuries. Two of the five reports of injuries involved children's fingers being severely pinched, lacerated, crushed or amputated. The three other reports of injury involved bruising after a chair detached suddenly and the child fell with the chair, striking the table or floor.

IV. International Standards for Hook-On Chairs and the ASTM Voluntary Standard

CPSC is aware of one international standard, EN1272-1998, Child Care Articles—Table Mounted Chairs—Safety Requirements and Test Methods, which addresses hook-on chairs in a fashion similar to ASTM F1235-15. CPSC staff compared ASTM F1235-15 requirements that address chair-to-table attachments and restraints and containment features to the equivalent EN1272-1998 provisions. The EN1272-1998 standard has requirements for:

• Chemical and flammability material properties;

• General construction, such as small parts, sharp edges and openings;

• Structural integrity, including static and dynamic tests;

• Restraints; and

• Labeling.

Although there are differences between the two standards, based on this comparison CPSC believes ASTM F1235-15 to be a more stringent standard, which will more completely address the hazard patterns seen in CPSC incident data. For example, ASTM F1235-15 contains a number of requirements that do not have an equivalent in the European standard, including the seat and seat back disengagement test, the passive crotch restraint requirement, and the scissoring, shearing, and pinching disengagement test. Additionally, in instances where there is an equivalent requirement in the European standard (e.g., static load test and chair pull/push test), ASTM requirements are as stringent as or more stringent than the comparable European standard requirement.

V. Voluntary Standard—ASTM F1235

A. History of ASTM F1235

The voluntary standard for hook-on chairs was first approved and published in 1989, as ASTM 1235-89, Standard Consumer Safety Specification for Portable Hook-On Chairs. ASTM has revised the voluntary standard seven times since then. The current version, ASTM F1235-15, was approved on May 1, 2015.

B. Description of the Current Voluntary Standard—ASTM F1235-15

ASTM F1235-15 was published in June 2015. Revisions include modified and new requirements developed by CPSC staff, in conjunction with stakeholders on the ASTM subcommittee task group, to address the hazards associated with hook-on chairs. ASTM F1235-15 includes the following key provisions: scope, terminology, general requirements, performance requirements, test methods, marking and labeling, and instructional literature.

Scope. This section states the scope of the standard, detailing what constitutes a hook-on chair. As stated in section II.A. of this preamble, the Scope section defines a hook-on chair to be “[u]sually a legless seat constructed to locate the occupant at a table in such a position and elevation so that the surface of the table can be used as the feeding surface for the occupant . . . [s]upported solely by the table on which it is mounted.” The Scope section further specifies the appropriate ages and weights for children using portable hook-on chairs as “between the ages of six months and three years and who weigh no more than 37 lb (16.8 kg) (95th percentile male at three years).”

Terminology. This section provides definitions of terms specific to this standard.

General Requirements. This section addresses numerous hazards with several general requirements, most of which are also found in the other ASTM juvenile product standards. The following are the general requirements contained in this section:

• Sharp points;

• Small parts;

• Lead in paint;

• Wood parts;

• Latching and locking mechanisms;

• Scissoring, shearing, and pinching (including during detachment from table support surface);

• Exposed coil springs;

• Openings;

• Labeling; and

• Protective components.

Performance Requirements and Test Methods. These sections contain performance requirements specific to hook-on chairs, as well as test methods that must be used to assess conformity with such requirements. Below is a discussion of each.

• Chair Drop Test: The hook-on chair is dropped twice from a height of 36 inches on each of six different planes. The purpose of this performance requirement is to test that the hook-on chair does not exhibit any mechanical hazards (sharp points, sharp edges, or small parts) after a drop test has been performed.

• Static Load Test: The hook-on chair must support a weight of 100 pounds on both the maximum and minimum thickness test surfaces. The purpose of this performance requirement is to test that the hook-on chair is strong enough to support approximately three times the weight of a child expected to be in the seat.

• Seat and Seat Back Disengagement Test: The seat and seat back must remain fully attached to the frame of the chair when various forces are applied. The purpose of this performance requirement is to test that the seat and seat back are strong enough to withstand the forces they will be subject to during use.

• Chair Bounce Test: The chair must remain attached to the standard test surface and allow no movement greater than 1 in (25 mm) when a force is applied to the seat back and a weight is dropped onto the seat 50 times. The purpose of this test is to simulate a child bouncing up and down in the hook-on chair.

• Chair Pull/Push Test: A variety of forces and weights are used to verify that the hook-on chair does not detach from the test surface. The purpose of this test is to simulate a child's actions that might cause the chair to disengage from the table.

• Restraint System Performance Requirements and Tests: The standard requires that an active restraint system, such as a belt, be provided to secure a child in the seated position in each of the manufacturer-recommended use positions. In addition, the restraint system must include both a waist and a crotch restraint designed to require the crotch restraint to be used when the active restraint system is used. The restraint system must be attached to the chair before shipment so the system does not release during normal use. The purpose of this performance requirement is to test that the restraint system and its closing means do not break, separate, or permit removal of the occupant when various forces are applied.

• Openings and Passive Crotch Restraint System: This section requires the chair to be supplied with a passive crotch restraint. In addition, to prevent consumer mis-installation or non-installation, the standard requires the passive crotch restraint be installed on the product at the time of shipment. The leg openings must be tested, using a wedge block, to assess whether the passive crotch restraint is effective under the load. The hook-on chair is attached to a test surface and then the tapered end of the wedge block is inserted, and a 25 lb. (111 N) force is applied to the wedge block to push (or pull) the wedge block through the opening. The wedge block is modeled from the hip/torso dimensions of the youngest expected user. In addition to the leg openings, any side openings of the seat, and openings in front of the occupant (between the chair and the supporting table structure), are also tested in a similar manner. To comply with the requirement, the wedge block must not pass completely through any opening. The purpose of these provisions is to reduce the likelihood of children getting injured or dying as a result of sliding through or becoming entrapped in an opening.

• Scissoring, Shearing, and Pinching Disengagement Test: This test is intended to reduce the likelihood of children becoming injured due to motion caused by the rotation of a hook-on chair when one side (clamp) detaches from the table. One recall was conducted in cooperation with the CPSC for this issue. The firm reported that two incidents resulted in a finger amputation of the occupant in the hook-on chair. In this test, the hook-on chair is partially attached to the minimum test surface with only one of the attachment-fastening devices firmly attached to the test surface; the other fastening device is left loose. A CAMI infant dummy is placed in the hook-on chair with the restraints fastened. A force is then applied to the chair/arm frame in line with the loose fastening device in a direction that results in the rotation of the product on a horizontal plane around the other (fully tightened) attachment point. When the loose attachment point is no longer supported by the test surface, the force is discontinued, and the product is allowed to rotate vertically downward from the test surface. Scissoring, shearing, or pinching that may result in injury is not permissible during the entire test, including when the chair is rotating downward.

Marking and Labeling. This section contains various requirements relating to warnings, labeling, and required markings for hook-on chairs. This section prescribes various substance, format, and prominence requirements for such information.

Instructional Literature. This sections requires that instructions be provided with hook-on chairs and be easy to read and understand. Additionally, the section contains requirements relating to instructional literature contents and format, as well as prominence of certain language.

VI. Assessment of the Voluntary Standard ASTM F1235-15

CPSC believes that the current voluntary standard, ASTM F1235-15, addresses the primary hazard patterns identified in the incident data. The following section discusses how each of the identified product-related issues or hazard patterns listed in section III.C. of this preamble is addressed by the current voluntary standard, ASTM F1235-15:

A. Chair's Attachment

CPSC is aware of 45 incidents in which the attachment of the hook-on chair to the table was compromised. ASTM F1235-15 contains two separate requirements with the intended purpose of reducing the likelihood of a hook-on chair becoming detached from its supporting surface: the chair bounce test and the chair pull/push test. Additionally, in response to CPSC staff's request, ASTM formed a task group to address hazards associated with partial detachment of a chair, which can result in scissoring or shearing hazards. CPSC staff worked with ASTM to develop performance requirements to address this hazard. Accordingly, the standard includes a requirement (first introduced in ASTM F1235-14a) to reduce injuries in the event that a hook-on chair partially detaches from the table support surface: the scissoring, shearing, and pinching test. CPSC believes these requirements adequately address this hazard pattern.

B. Restraint or Containment

CPSC is aware of 22 incidents involving or likely involving issues with the hook-on chair restraints or other means of containment. In these instances, children slipped and became entrapped by the neck, or children were able to stand up and fall out over the sides of the chair. The only known fatality in the incident data occurred when a child's head and neck became wedged between the seat and table edge. Similar non-fatal incidents were also reported. Additionally, CPSC received reports of children standing and then slipping and becoming trapped between the table and the hook-on chair.

In response to reported incidents, CPSC staff worked with an ASTM task group to create a provision that hook-on chairs must contain a passive crotch restraint—a “component that separates the openings for the legs of the occupant into two separate bounded openings and requires no action on the part of the caregiver to use except to position one leg into each opening created by the component.” Before the 2014 version of the standard, ASTM F1235 did not contain a passive crotch restraint requirement.

Additionally, CPSC's work with the ASTM task group led to a related leg openings performance requirement and test method. Consequently, the current standard contains an openings requirement and associated test methodologies that cover leg openings and side openings. This requirement also applies to completely bounded openings in front of the occupant, addressing entrapment between the leading edge of the chair and the supporting table surface.

ASTM F1235-15 requires that all hook-on chairs contain a crotch and waist belt restraint system. In addition, the restraint system undergoes testing to check that the system restrains the child as intended. The leg openings, openings around the side and in front of the seat, and the area between the chair and the supporting table are all tested to check that an occupant cannot slide through or become entrapped in the openings. CPSC believes these recent additions to the standard adequately address this hazard pattern.

C. Fabric- and Component-Related Incidents

CPSC is aware of 15 incidents in which seat fabric, seat fabric fasteners, or other chair components failed. ASTM F1235-15 includes three different performance tests to help address this hazard pattern: the chair drop test, the static load test, and the seat/seat back disengagement test. Additionally, warning and instructional literature improvements included in the last revision of the standard will help prevent snaps or Velcro from unintentionally detaching due to foreseeable misuse and abuse. CPSC believes that ASTM F1235-15 adequately addresses this hazard pattern.

D. Other

ASTM F1235-15 includes revised requirements for marking and labeling and instructional literature. These improvements are intended to help reduce incidents of misuse, such as attaching a hook-on chair to a table for which it was not intended. CPSC believes that the standard contains adequate and clear warnings related to known hazards associated with hook-on chairs.

VII. Proposed CPSC Standard for Hook-On Chairs

As explained in the previous section of this preamble, the Commission concludes that ASTM F1235-15 adequately addresses the hazards associated with hook-on chairs. Thus, the Commission proposes to incorporate by reference ASTM F1235-15 without any modifications.

VIII. Amendment to 16 CFR Part 1112 To Include NOR for Hook-On Chairs Standard

The CPSA establishes certain requirements for product certification and testing. Products subject to a consumer product safety rule under the CPSA, or to a similar rule, ban, standard or regulation under any other act enforced by the Commission, must be certified as complying with all applicable CPSC-enforced requirements. 15 U.S.C. 2063(a). Certification of children's products subject to a children's product safety rule must be based on testing conducted by a CPSC-accepted third party conformity assessment body. Id. 2063(a)(2). The Commission must publish an NOR for the accreditation of third party conformity assessment bodies to assess conformity with a children's product safety rule to which a children's product is subject. Id. 2063(a)(3). Thus, the proposed rule for 16 CFR part 1233, Safety Standard for Portable Hook-On Chairs, if issued as a final rule, would be a children's product safety rule that requires the issuance of an NOR.

The Commission published a final rule, Requirements Pertaining to Third Party Conformity Assessment Bodies, 78 FR 15836 (March 12, 2013), codified at 16 CFR part 1112 (“part 1112”) and effective on June 10, 2013, which establishes requirements for accreditation of third party conformity assessment bodies to test for conformity with a children's product safety rule in accordance with section 14(a)(2) of the CPSA. Part 1112 also codifies all of the NORs issued previously by the Commission.

All new NORs for new children's product safety rules, such as the hook-on chair standard, require an amendment to part 1112. To meet the requirement that the Commission issue an NOR for the proposed hook-on chair standard, as part of this NPR, the Commission proposes to amend the existing rule that codifies the list of all NORs issued by the Commission to add hook-on chairs to the list of children's product safety rules for which the CPSC has issued an NOR.

Test laboratories applying for acceptance as a CPSC-accepted third party conformity assessment body to test to the new standard for hook-on chairs would be required to meet the third party conformity assessment body accreditation requirements in part 1112. When a laboratory meets the requirements as a CPSC-accepted third party conformity assessment body, the laboratory can apply to the CPSC to have 16 CFR part 1233, Safety Standard for Portable Hook-On Chairs, included in the laboratory's scope of accreditation of CPSC safety rules listed for the laboratory on the CPSC Web site at: www.cpsc.gov/labsearch.

IX. Incorporation by Reference

Section 1233.2(a) of the proposed rule incorporates by reference ASTM F1235-15. The Office of the Federal Register (“OFR”) has regulations concerning incorporation by reference. 1 CFR part 51. The OFR recently revised these regulations to require that, for a proposed rule, agencies must discuss in the preamble of the NPR ways that the materials the agency proposes to incorporate by reference are reasonably available to interested persons or how the agency worked to make the materials reasonably available. In addition, the preamble of the proposed rule must summarize the material. 1 CFR 51.5(a).

In accordance with the OFR's requirements, section V.B. of this preamble summarizes the provisions of ASTM F1235-15 that the Commission proposes to incorporate by reference. ASTM F1235-15 is copyrighted. By permission of ASTM, the standard can be viewed as a read-only document during the comment period on this NPR, at: http://www.astm.org/cpsc.htm. Interested persons may also purchase a copy of ASTM F1235-15 from ASTM International, 100 Bar Harbor Drive, P.O. Box 0700, West Conshohocken, PA 19428; http://www.astm.org/cpsc.htm. One may also inspect a copy at CPSC's Office of the Secretary, U.S. Consumer Product Safety Commission, Room 820, 4330 East West Highway, Bethesda, MD 20814, telephone 301-504-7923.

X. Effective Date

The Administrative Procedure Act (“APA”) generally requires that the effective date of a rule be at least 30 days after publication of the final rule. 5 U.S.C. 553(d). The Commission is proposing an effective date of six months after publication of the final rule in the Federal Register. Without evidence to the contrary, CPSC generally considers six months to be sufficient time for suppliers to come into compliance with a new standard, and a six-month effective date is typical for other CPSIA section 104 rules. Six months is also the period that the Juvenile Products Manufacturers Association (“JPMA”) typically allows for products in the JPMA certification program to transition to a new standard once that standard is published.

We also propose a six-month effective date for the amendment to part 1112. We ask for comments on the proposed six-month effective date.

XI. Regulatory Flexibility Act

A. Introduction

The Regulatory Flexibility Act (“RFA”) requires that agencies review a proposed rule for the rule's potential economic impact on small entities, including small businesses. Section 603 of the RFA generally requires that agencies prepare an initial regulatory flexibility analysis (“IRFA”) and make the analysis available to the public for comment when the agency publishes an NPR. 5 U.S.C. 603. Section 605 of the RFA provides that an IRFA is not required if the agency certifies that the rule will not, if promulgated, have a significant economic impact on a substantial number of small entities. As explained in this section, the Commission concludes that the standard for hook-on chairs, if promulgated as a final rule, will not have a significant economic impact on a substantial number of small entities. 5 U.S.C. 605(b).

B. Market Description

The Commission has identified 10 firms supplying hook-on chairs to the U.S. market, typically priced at $40 to $80 each. These firms specialize in the manufacture and/or distribution of durable nursery products and represent only a small segment of the juvenile products industry. All but two of these firms are represented by the JPMA which, according to its Web site, represents 95 percent of the North American industry or about 250 companies. Nine of the 10 known firms are domestic (including 3 manufacturers and 6 importers). The remaining firm is a foreign manufacturer.

Hook-on chairs represent only a small proportion of each firm's overall product line; on average, each firm supplies one hook-on chair model to the U.S. market annually. This reflects hook-on chairs' relative lack of popularity when compared with substitute products such as high chairs and booster chairs. In 2013, the CPSC conducted a Durable Nursery Product Exposure Survey (“DNPES”) of U.S. households with children under age 6. Data from the DNPES indicate that there are an estimated 2.04 million hook-on chairs in U.S. households with children under the age of 6. The number of high chairs and booster chairs was each more than four times higher with an estimated 9.74 million and 8.91 million in U.S. households with children under age 6, respectively.

C. Impact of Proposed 16 CFR Part 1233 on Small Businesses

We are aware of approximately 10 firms currently marketing portable hook-on chairs in the United States, 9 of which are domestic firms. Under U.S. Small Business Administration (“SBA”) guidelines, a manufacturer of hook-on chairs is small if it has 500 or fewer employees, and importers and wholesalers are considered small if they have 100 or fewer employees. We limit our analysis to domestic firms because SBA guidelines and definitions pertain to U.S.-based entities. Based on these guidelines, six of the nine domestic suppliers are small—two domestic manufacturers and four domestic importers. Staff expects that the hook-on chairs of nine of the 10 firms are compliant with ASTM F1235 because they are either: (1) Certified by the JPMA (three firms); or (2) the supplier claims compliance with the voluntary standard (six firms). It is unknown at this time whether the hook-on chairs supplied by the remaining firm, the foreign manufacturer, comply with the ASTM voluntary standard.

The costs of compliance with the proposed standard, if any, are expected to be negligible for all known small firms, all of which have hook-on chairs compliant with the ASTM voluntary standard currently in effect for testing purposes (F1235-14). These firms are expected to remain compliant with the voluntary standard as it evolves, because they follow (and most of these firms actively participate in) the standard development process. Therefore, compliance with the voluntary standard is part of an established business practice. ASTM F1235-15, the version of the voluntary standard that the Commission proposes to adopt without modification as the mandatory hook-on chair standard, will be in effect for testing purposes by the time the mandatory standard becomes final. These firms are likely to be in compliance by the rule's effective date, based on their history.

Under section 14 of the CPSA, once the new hook-on chair requirements become effective, all manufacturers will be subject to the third party testing and certification requirements under the testing rule, Testing and Labeling Pertaining to Product Certification (16 CFR part 1107) (“1107 rule”). Importers will also be subject to these requirements if their supplying foreign firm(s) does not perform third party testing. Third party testing will include any physical and mechanical test requirements specified in the final hook-on chairs rule. Manufacturers and importers of hook-on chairs should already be conducting required lead or phthalates testing for hook-on chairs. Any costs associated with third party testing are in addition to the direct costs of meeting the hook-on chair standard.

Additional testing costs for manufacturers are expected to be small because all hook-on chairs in the U.S. market are currently tested to verify compliance with the ASTM standard, though not necessarily via third party. According to estimates from suppliers, testing to the ASTM voluntary standard typically costs about $600-$1,000 per model sample. Based on an examination of firm revenues from recent Dun & Bradstreet or ReferenceUSAGov reports, the impact of third party testing to ASTM F1235-15 is unlikely to be economically significant for small manufacturers (i.e., testing costs will be less than 1 percent of gross revenue). Although it is unknown how many samples will be needed to meet the “high degree of assurance” criterion required in the 1107 rule, over 35 units per model would be required to make testing costs exceed one percent of gross revenue for the small manufacturer with the lowest gross revenue. Note that this calculation assumes the rule would generate additional testing costs in the $600-$1,000 per model sample range. Given that all firms are conducting some testing already, this likely overestimates the impact of the rule on testing costs.

Likewise, we expect the cost of third party testing to the proposed rule to be small for small importers. Again, all hook-on chairs are currently tested to verify compliance with the ASTM standard. Discussions with one importer indicate that this testing is currently conducted by their foreign supplier. Second, as with manufacturers, any costs would be limited to the incremental costs associated with third party testing over the current testing regime, to the extent there are any additional costs.

Both the costs of compliance and the incremental costs of testing due to the 1107 rule are not expected to be economically significant for manufacturers and importers of hook-on chairs. However, even if the costs were significant, the affected firms have diverse product lines, only a minor part consisting of hook-on chairs; an economically feasible option is to discontinue the product line and remain in business.

The analysis above shows that there are only a few small suppliers of hook-on chairs, and these few firms represent only a small segment of the juvenile products industry. Moreover, this product is only one of many in each firm's product line and is unlikely to be of particular importance to a firm's overall market plan. All of the hook-on chairs supplied by these firms comply with the voluntary standard and are expected to continue to do so. Consequently, the costs of compliance, if any, are expected to be negligible. Third party testing costs are expected to be very small and economically insignificant (i.e., less than one percent of gross revenue for affected firms), given that all of the hook-on chairs supplied by these firms are already being tested to the ASTM voluntary standard. For these reasons, the Commission certifies that the proposed hook-on chair rule will not have a significant impact on a substantial number of small entities.

D. Impact of Proposed 16 CFR Part 1112 Amendment on Small Businesses

This proposed rule would also amend part 1112 to add hook-on chairs to the list of children's products for which the Commission has issued an NOR. As required by the RFA, staff conducted a Final Regulatory Flexibility Analysis (“FRFA”) when the Commission issued the part 1112 rule (78 FR 15836, 15855-58). Briefly, the FRFA concluded that the accreditation requirements would not have a significant adverse impact on a substantial number of small test laboratories because no requirements were imposed on test laboratories that did not intend to provide third party testing services. The only test laboratories that were expected to provide such services were those that anticipated receiving sufficient revenue from the mandated testing to justify accepting the requirements as a business decision. Moreover, a test laboratory would only choose to provide such services if it anticipated receiving revenues sufficient to cover the costs of the requirements.

Based on similar reasoning, amending 16 CFR part 1112 to include the NOR for the hook-on chairs standard will not have a significant adverse impact on small test laboratories. Moreover, based upon the number of test laboratories in the United States that have applied for CPSC acceptance of accreditation to test for conformance to other mandatory juvenile product standards, we expect that only a few test laboratories will seek CPSC acceptance of their accreditation to test for conformance with the hook-on chair standard. Most of these test laboratories will have already been accredited to test for conformity to other mandatory juvenile product standards, and the only costs to them would be the cost of adding the hook-on chairs standard to their scope of accreditation. For these reasons, the Commission certifies that the NOR amending 16 CFR part 1112 to include the hook-on chairs standard will not have a significant impact on a substantial number of small entities.

XII. Environmental Considerations

The Commission's regulations address whether the agency is required to prepare an environmental assessment or an environmental impact statement. Under these regulations, a rule that has “little or no potential for affecting the human environment,” is categorically exempt from this requirement. 16 CFR 1021.5(c)(1). The proposed rule falls within the categorical exemption.

XIII. Paperwork Reduction Act

This proposed rule contains information collection requirements that are subject to public comment and review by the Office of Management and Budget (OMB) under the Paperwork Reduction Act of 1995 (44 U.S.C. 3501-3521). In this document, pursuant to 44 U.S.C. 3507(a)(1)(D), we set forth:

• A title for the collection of information;

• a summary of the collection of information;

• a brief description of the need for the information and the proposed use of the information;

• a description of the likely respondents and proposed frequency of response to the collection of information;

• an estimate of the burden that shall result from the collection of information; and

• notice that comments may be submitted to the OMB.

Title: Safety Standard for Portable Hook-On Chairs

Description: The proposed rule would require each hook-on chair to comply with ASTM F1235-15, Standard Consumer Safety Specification for Portable Hook-On Chairs. Sections 8 and 9 of ASTM F1235-15 contain requirements for marking, labeling, and instructional literature. These requirements fall within the definition of “collection of information,” as defined in 44 U.S.C. 3502(3).

Description of Respondents: Persons who manufacture or import hook-on chairs.

Estimated Burden: We estimate the burden of this collection of information as follows:

Table 3—Estimated Annual Reporting Burden
16 CFR section | Number of respondents | Frequency of responses | Total annual responses | Hours per response | Total burden hours
1233.2(a) | 10 | 1 | 10 | 1 | 10

Our estimate is based on the following:

Section 8.1 of ASTM F1235-15 requires that the name and the place of business (city, state, and mailing address, including zip code) or telephone number of the manufacturer, distributor, or seller be marked clearly and legibly on each product and its retail package. Section 8.2 of ASTM F1235-15 requires a code mark or other means that identifies the date (month and year, as a minimum) of manufacture.

Ten known entities supply hook-on chairs to the U.S. market may need to make some modifications to their existing labels. We estimate that the time required to make these modifications is about 1 hour per model. Based on an evaluation of supplier product lines, each entity supplies an average of one model of hook-on chairs; ¹ therefore, the estimated burden associated with labels is 1 hour per model × 10 entities × 1 models per entity = 10 hours. We estimate the hourly compensation for the time required to create and update labels is $30.09 (U.S. Bureau of Labor Statistics, “Employer Costs for Employee Compensation,” Dec. 2014, Table 9, total compensation for all sales and office workers in goods-producing private industries: http://www.bls.gov/ncs/). Therefore, the estimated annual cost to industry associated with the labeling requirements is $300.90 ($30.09 per hour × 10 hours = $300.90). No operating, maintenance, or capital costs are associated with the collection.

¹ This number was derived during the market research phase of the initial regulatory flexibility analysis by dividing the total number of hook-on chairs supplied by all hook-on chair suppliers by the total number of hook-on chair suppliers.

Section 9.1 of ASTM F1235-15 requires instructions to be supplied with the product. Hook-on chairs are complicated products that generally require use and assembly instructions. Under the OMB's regulations (5 CFR 1320.3(b)(2)), the time, effort, and financial resources necessary to comply with a collection of information that would be incurred by persons in the “normal course of their activities” are excluded from a burden estimate, where an agency demonstrates that the disclosure activities required to comply are “usual and customary.” We are unaware of hook-on chairs that generally require use instructions but lack such instructions. Therefore, we tentatively estimate that no burden hours are associated with section 9.1 of ASTM F1235-15, because any burden associated with supplying instructions with hook-on chairs would be “usual and customary” and not within the definition of “burden” under the OMB's regulations.

Based on this analysis, the proposed standard for hook-on chairs would impose a burden to industry of 10 hours at a cost of $313.20 annually.

In compliance with the Paperwork Reduction Act of 1995 (44 U.S.C. 3507(d)), we have submitted the information collection requirements of this rule to the OMB for review. Interested persons are requested to submit comments regarding information collection by August 3, 2015, to the Office of Information and Regulatory Affairs, OMB (see the ADDRESSES section at the beginning of this notice).

Pursuant to 44 U.S.C. 3506(c)(2)(A), we invite comments on:

• Whether the collection of information is necessary for the proper performance of the CPSC's functions, including whether the information will have practical utility;

• the accuracy of the CPSC's estimate of the burden of the proposed collection of information, including the validity of the methodology and assumptions used;

• ways to enhance the quality, utility, and clarity of the information to be collected;

• ways to reduce the burden of the collection of information on respondents, including the use of automated collection techniques, when appropriate, and other forms of information technology; and

• the estimated burden hours associated with label modification, including any alternative estimates.

XIV. Preemption

Section 26(a) of the CPSA, 15 U.S.C. 2075(a), provides that when a consumer product safety standard is in effect and applies to a product, no state or political subdivision of a state may either establish or continue in effect a requirement dealing with the same risk of injury unless the state requirement is identical to the federal standard. Section 26(c) of the CPSA also provides that states or political subdivisions of states may apply to the Commission for an exemption from this preemption under certain circumstances. Section 104(b) of the CPSIA refers to the rules to be issued under that section as “consumer product safety rules.” Therefore, the preemption provision of section 26(a) of the CPSA would apply to a rule issued under section 104.

XV. Request for Comments

This NPR begins a rulemaking proceeding under section 104(b) of the CPSIA to issue a consumer product safety standard for hook-on chairs, and to amend part 1112 to add hook-on chairs to the list of children's product safety rules for which the CPSC has issued an NOR. We invite all interested persons to submit comments on any aspect of the proposed mandatory safety standard for hook-on chairs and on the proposed amendment to part 1112. Specifically, the Commission requests comments on the costs of compliance with, and testing to, the proposed hook-on chair safety standard, the proposed six-month effective date for the new mandatory hook-on chair safety standard, and the proposed amendment to part 1112. During the comment period, the ASTM F1235-15, Standard Consumer Safety Specification for Portable Hook-On Chairs, is available as a read-only document at: http://www.astm.org/cpsc.htm.

Comments should be submitted in accordance with the instructions in the ADDRESSES section at the beginning of this notice.

List of Subjects

16 CFR Part 1112

Administrative practice and procedure, Audit, Consumer protection, Reporting and recordkeeping requirements, Third party conformity assessment body.

16 CFR Part 1233

Consumer protection, Imports, Incorporation by reference, Infants and children, Labeling, Law enforcement, and Toys.

For the reasons discussed in the preamble, the Commission proposes to amend Title 16 of the Code of Federal Regulations as follows:

PART 1112—REQUIREMENTS PERTAINING TO THIRD PARTY CONFORMITY ASSESSMENT BODIES

1. The authority citation for part 1112 continues to read as follows:

Authority: 15 U.S.C. 2063; Pub. L. 110-314, section 3, 122 Stat. 3016, 3017 (2008).

2. Amend § 1112.15 by adding paragraph (b)(40) to read as follows:

§ 1112.15 When can a third party conformity assessment body apply for CPSC acceptance for a particular CPSC rule and/or test method?

* * * * *

(b) * * *

(40) 16 CFR part 1233, Safety Standard for Portable Hook-On Chairs.

* * * * *

3. Add part 1233 to read as follows:

PART 1233—SAFETY STANDARD FOR PORTABLE HOOK-ON CHAIRS

Sec.
1233.1 Scope.
1233.2 Requirements for portable hook-on chairs.

Authority: The Consumer Product Safety Improvement Act of 2008, Pub. L. 110-314, § 104, 122 Stat. 3016 (August 14, 2008); Pub. L. 112-28, 125 Stat. 273 (August 12, 2011).

§ 1233.1 Scope.

This part establishes a consumer product safety standard for portable hook-on chairs.

§ 1233.2 Requirements for portable hook-on chairs.

Each portable hook-on chair must comply with all applicable provisions of ASTM F1235-15, Standard Consumer Safety Specification for Portable Hook-On Chairs, approved on May 1, 2015. The Director of the Federal Register approves this incorporation by reference in accordance with 5 U.S.C. 552(a) and 1 CFR part 51. You may obtain a copy from ASTM International, 100 Bar Harbor Drive, P.O. Box 0700, West Conshohocken, PA 19428; http://www.astm.org/cpsc.htm. You may inspect a copy at the Office of the Secretary, U.S. Consumer Product Safety Commission, Room 820, 4330 East West Highway, Bethesda, MD 20814, telephone 301-504-7923, or at the National Archives and Records Administration (NARA). For information on the availability of this material at NARA, call 202-741-6030, or go to: http://www.archives.gov/federal_register/code_of_federalregulations/ibr_locations.html.

Dated: June 29, 2015.
Todd A. Stevenson,
Secretary, Consumer Product Safety Commission.

[FR Doc. 2015-16330 Filed 7-1-15; 8:45 am]

BILLING CODE 6355-01-P